DEPARTMENT OF ENERGY

Federal Energy Regulatory Commission

[Project No. 2467-020]

Merced Irrigation District; Notice of Environmental Site Review

Take notice that the following hydroelectric applications have been filed with Commission and are available for public inspection:

a. Type of Application: New License.

b. Project No.: 2467-020.

c. Date filed: February 8, 2012.

d. Applicant: Pacific Gas and Electric Company (PG&E).

e. Name of Project: Merced Falls Hydroelectric Project.

f. Location: The existing project is located on the Merced River on the border of Merced and Mariposa counties, California, immediately downstream of the Merced River Hydroelectric Project (FERC No. 2179), operated by the Merced Irrigation District (Merced ID). The project would occupy 1.62 acres of Federal land managed by the Bureau of Land Management.

g. Filed Pursuant to: Federal Power Act, 16 U.S.C. 791(a)-825(r).

h. Applicant Contact: Pacific Gas and Electric Company, Power Generation, P.O. Box 770000, MC N11C, San Francisco, CA 94177-0001; Telephone (415) 973-70001.

i. FERC Contact: Matt Buhyoff, (202) 502-6824 or matt.buhyoff@ferc.gov.

Environmental Site Review

The Applicant and FERC staff will conduct a project Environmental Site Review of this project and the adjacent Merced River project (FERC No. 2179) beginning at 7:00 a.m. on May 1, 2014. All interested individuals, organizations, and agencies are invited to attend. All participants should meet at the Merced Irrigation District's offices located at 744 West 20th Street in Merced, California. All participants are responsible for their own transportation to the site. Anyone with questions about the Environmental Site Review should contact Mr. Alan Soneda at 415-973-4054.

Dated: April 11, 2014.
Kimberly D. Bose,
Secretary.

[FR Doc. 2014-08757 Filed 4-16-14; 8:45 am]

BILLING CODE 6717-01-P